DEPARTMENT OF VETERANS AFFAIRS

[OMB Control No. 2900-0018]

Agency Information Collection Activity: Application for Accreditation as Service Organization Representative

AGENCY: Office of General Counsel, Department of Veterans Affairs.

ACTION: Notice.

SUMMARY: The Office of General Counsel (OGC), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 23, 2019.

ADDRESSES: Submit written comments on the collection of information through Federal Docket Management System (FDMS) at www.Regulations.gov or to Jonathan Taylor, Office of the General Counsel (022D), Department of Veterans Affairs, 810 Vermont Avenue NW, Washington, DC 20420 or email to jonathan.taylor2@va.gov. Please refer to “OMB Control No. 2900-0018” in any correspondence. During the comment period, comments may be viewed online through FDMS.

FOR FURTHER INFORMATION CONTACT: Jonathan Taylor at (202) 461-7699 or FAX (202) 273-6404.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OGC invites comments on: (1) Whether the proposed collection of information is necessary for the proper performance of OGC's functions, including whether the information will have practical utility; (2) the accuracy of OGC's estimate of the burden of the proposed collection of information; (3) ways to enhance the quality, utility, and clarity of the information to be collected; and (4) ways to minimize the burden of the collection of information on respondents, including through the use of automated collection techniques or the use of other forms of information technology.

Authority: 38 U.S.C. 5901, 5902, 5904; 38 CFR 14.629, 14.633.

Title: Application for Accreditation as Service Organization Representative.

OMB Control Number: 2900-0018.

Type of Review: Reinstatement of a previously approved collection.

Abstract: Service organizations are required to file an application with VA to establish eligibility for accreditation for representatives of that organization to represent benefit claimants before VA. VA Form 21 is completed by service organizations to establish accreditation for representatives and recertify the qualifications of accredited representatives.

Organizations requesting cancellation of a representative's accreditation based on misconduct, incompetence, or resignation to avoid cancellation of accreditation based upon misconduct or incompetence are required to inform VA of the specific reason for the cancellation request. VA will use the information collected to determine whether service organizations' representatives continue to meet regulatory eligibility requirements to ensure claimants have qualified representatives to assist in the preparation, presentation and prosecution of their claims for benefits.

Affected Public: Individuals, not-for-profit institutions, and state, local, or tribal governments.

Estimated Annual Burden: 1,013 hours (650 hours for new applicants, 350 hours for recertifications, and 13 hours for accreditation cancellation information responses).

Estimated Average Burden per Respondent: 13 minutes (15 minutes for new applicants, 10 minutes for recertifications, and 60 minutes for accreditation cancellation information responses).

Frequency of Response: One time.

Estimated Number of Respondents: 4,713 (2,600 new applicants, 2,100 recertifications, and 13 accreditation cancellation information responses).

By direction of the Secretary.
Danny S. Green,
VA Interim Clearance Officer, Office of Quality, Performance and Risk, Department of Veterans Affairs.

[FR Doc. 2019-15782 Filed 7-24-19; 8:45 am]

BILLING CODE 8320-01-P